DEPARTMENT OF HOMELAND SECURITY

Office of the Secretary

[Docket No. DHS-2016-0080]

Privacy Act of 1974; Computer Matching Program

AGENCY: U.S. Citizenship and Immigration Services, Department of Homeland Security.

ACTION: Notice of Recertification.

SUMMARY: This document provides notice of the existence of a computer matching program between the Department of Homeland Security/U.S. Citizenship and Immigration Services and the Texas Workforce Commission.

SUPPLEMENTARY INFORMATION: The Department of Homeland Security/U.S. Citizenship and Immigration Services provides this notice in accordance with the Privacy Act of 1974 (5 U.S.C. 552a), as amended by the Computer Matching and Privacy Protection Act of 1988 (Pub. L. 100-503) and the Computer Matching and Privacy Protection Amendments of 1990 (Pub. L. 101-508) (Privacy Act); Office of Management and Budget (OMB) Final Guidance Interpreting the Provisions of Public Law 100-503, the Computer Matching and Privacy Protection Act of 1988, 54 FR 25818 (June 19, 1989); and appendix I to OMB's Revision of Circular No. A-130 (November 28, 2000), “Transmittal Memorandum No. 4, Management of Federal Information Resources.”

Participating Agencies: The Department of Homeland Security/U.S. Citizenship and Immigration Services (DHS/USCIS) is the source agency and the Texas Workforce Commission (TWC) is the recipient agency.

Purpose of the Match: The purpose of this Agreement is to establish the terms and conditions governing TWC's access to, and use of, the DHS-USCIS Systematic Alien Verification for Entitlements (SAVE) Program, which provides immigration status information from federal immigration records to authorized users, and to comply with the Computer Matching and Privacy Protection Act of 1988.

Texas Workforce Commission will use the SAVE Program to verify the immigration status of non U.S. citizens who apply for benefits (Benefit Applicants) under the Unemployment Compensation (UC) benefits that it administers. Under Federal law, immigrant workers must be in particular immigration categories to qualify for UC benefits. Texas Workforce Commission will use the information obtained through the SAVE Program to determine whether Benefit Applicants possess the requisite immigration status to be eligible for the UC benefits administered by TWC.

Authority for Conducting the Matching Program: Section 121 of the Immigration Reform and Control Act (IRCA) of 1986, Public Law 99-603, as amended by the Personal Responsibility and Work Opportunity Reconciliation Act of 1996 (PRWORA), Public Law 104-193, 110 Stat. 2168 (1996), requires DHS to establish a system for the verification of immigration status of noncitizen applicants for, or recipients of, certain types of benefits as specified within IRCA, and to make this system available to state agencies that administer such benefits. Section 121(c) of IRCA amends sec. 1137 of the Social Security Act and certain other sections of law that pertain to Federal entitlement benefit programs. Section 121(c) requires state agencies administering these programs to use DHS-USCIS's verification system to make eligibility determinations to prevent the issuance of benefits to ineligible noncitizen applicants. The SAVE Program is the DHS-USCIS system available to the TWC and other covered agencies for use in making these eligibility determinations.

Section 642(a) of the Illegal Immigration Reform and Immigrant Responsibility Act of 1996 (IIRIRA), Public Law 104-208, 110 Stat. 3009 (1996) (8 U.S.C. 1373(a)) grants Federal, State, or local government agencies seeking to verify or ascertain the citizenship or immigration status of any individual within the jurisdiction of the agency with the authority to request such information from DHS-USCIS for any purpose authorized by law.

Texas Workforce Commission will access to the SAVE Program for the purpose of confirming the immigration status of noncitizen applicants for, or recipients of, benefits it administers to discharge its obligation to conduct such verifications pursuant to sec. 1137 of the Social Security Act (42 U.S.C. 1320b-7(a) et seq.) and Texas Labor Code 207.043.

Categories of Records and Individuals Covered: The SAVE Program uses the records in the DHS-USCIS Verification Information System (VIS) database to verify immigration status; it contains information related to the status of noncitizens, naturalized citizens, and to the extent they have applied for Certificates of Citizenship, derived U.S. citizens, on whom DHS-USCIS has a record as an applicant, petitioner, sponsor, or beneficiary. See DHS/USCIS-004 Systematic Alien Verification for Entitlements (SAVE) Systems of Records Notice, 77 FR 47415 (August 8, 2012).

TWC records pertaining to noncitizen Benefit Applicants for, or recipients of, UC benefits administered by TWC.

TWC will match the following records with DHS/USCIS records:

• Alien Registration Number

• I-94 Number

• Last Name

• First Name

• Middle Name

• Date of Birth

• Nationality

• Social Security number

DHS/USCIS will match the following records with TWC records:

• Alien Registration Number

• Last Name

• First Name

• Middle Name

• Date of Birth

• Country of Birth (not nationality)

• Social Security number (if available)

• Date of Entry

• Immigration Status Data

• Employment Eligibility Data

System of Records: DHS/USCIS-004 Systematic Alien Verification for Entitlements Program System of Records Notice, 77 FR 47415 (August 8, 2012).

Inclusive Dates of the Matching Program: The inclusive dates of the matching program are from December 8, 2016, and continuing for 18 months through June 7, 2018. The matching program may be extended for an additional 12 months thereafter, if certain conditions are met.

Address for Receipt of Public Comments or Inquires: Individuals wishing to comment on this matching program or obtain additional information about the program, including requesting a copy of the computer matching agreement between DHS-USCIS and TWC.

For general questions please contact: Donald K. Hawkins, 202-272-8030, Privacy Officer, U.S. Citizenship and Immigration Services, Department of Homeland Security, 20 Massachusetts Avenue NW., Washington, DC 20529.

For privacy questions please contact: Jonathan R. Cantor, 202-343-1717, Acting Chief Privacy Officer, Privacy Office, Department of Homeland Security, Washington, DC 20528.

Dated: November 1, 2016.
Jonathan R. Cantor,
Acting Chief Privacy Officer, Department of Homeland Security.

[FR Doc. 2016-27131 Filed 11-10-16; 8:45 am]

BILLING CODE 9110-9L-P